DEPARTMENT OF ENERGY

[OE Docket No. EA-249-B]

Application To Export Electric Energy; Exelon Generation Company, LLC

AGENCY: Office of Electricity Delivery and Energy Reliability, DOE.

ACTION: Notice of Application.

SUMMARY: Exelon Generation Company, LLC (Exelon) has applied to renew its authority to transmit electric energy from the United States to Canada pursuant to section 202(e) of the Federal Power Act.

DATES: Comments, protests, or requests to intervene must be submitted on or before July 27, 2009.

ADDRESSES: Comments, protests or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated and require authorization under section 202(e) of the Federal Power Act (FPA) (16 U.S.C. 824a(e)).

On October 15, 2001, the Department of Energy (DOE) issued Order No. EA-249 authorizing Exelon to transmit electric energy from the United States to Canada as a power marketer using certain international transmission facilities located at the United States border with Canada. On April 5, 2004, DOE issued Order No. EA-249-A which renewed that authorization for a five-year period. That Order expired on April 5, 2009. On June 8, 2009, Exelon filed an application with DOE to renew the export authority contained in Order No. EA-249-A for an additional five-year term.

Exelon is a power marketer that generates and sells electricity under its Federal Energy Regulatory Commission approved tariffs; Exelon does not have a franchised electric power service area. The electric energy which Exelon proposes to export to Canada would be surplus energy from its own generation or purchased from third parties. Exelon proposes to export the electric energy using transmission lines authorized by Presidential permit at the U.S. border with Canada determined by DOE to be appropriate for third party use and available for open access transmission.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the Exelon application to export electric energy to Canada should be clearly marked with Docket No. EA-249-B. Additional copies are to be filed directly with Noel H. Tarsk, Lead Counsel, Exelon Power team, Exelon Generation Company, LLC, 300 Exelon Way, Kennett Square, PA 19348. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.Hopkins@hq.doe.gov.

Issued in Washington, DC, on June 19, 2009.
Anthony J. Como,
Director, Permitting and Siting, Office of Electricity Delivery and Energy Reliability.

[FR Doc. E9-15129 Filed 6-25-09; 8:45 am]

BILLING CODE 6450-01-P